COMMITTEE FOR PURCHASE FROM PEOPLE WHO ARE BLIND OR SEVERELY DISABLED

Procurement List; Proposed Deletions

AGENCY: Committee for Purchase From People Who Are Blind or Severely Disabled.

ACTION: Proposed deletions from the Procurement List.

SUMMARY: The Committee is proposing to delete product(s) and service(s) from the Procurement List that were furnished by nonprofit agencies employing persons who are blind or have other severe disabilities.

DATES: Comments must be received on or before: May 4, 2025.

ADDRESSES: Committee for Purchase From People Who Are Blind or Severely Disabled, 355 E Street SW, Suite 325, Washington, DC 20024.

FOR FURTHER INFORMATION CONTACT: For further information or to submit comments contact: Michael R. Jurkowski, telephone: (703) 489-1322, or email CMTEFedReg@AbilityOne.gov.

SUPPLEMENTARY INFORMATION: This notice is published pursuant to 41 U.S.C. 8503(a)(2) and 41 CFR 51-2.3. Its purpose is to provide interested persons an opportunity to submit comments on the proposed actions.

Deletions

The following product(s) and service(s) are proposed for deletion from the Procurement List:

Product(s)

NSN(s)—Product Name(s):

7510-01-579-9326—Binder, Removable Slant-D Rings, 100% Recyclable, Turned Edge, Dark Green, 1″ Capacity, Letter

Authorized Source of Supply: South Texas Lighthouse for the Blind, Corpus Christi, TX

Contracting Activity: GSA/FAS ADMIN SVCS ACQUISITION BR(2, NEW YORK, NY

Contracting Activity: Strategic Acquisition Center, Fredericksburg, VA

NSN(s)—Product Name(s):

MR 813—Thermometer, Analog Probe

MR 815—Thermometer, Digital

Authorized Source of Supply: Chicago Lighthouse Industries, Chicago, IL

Contracting Activity: Military Resale-Defense Commissary Agency

NSN(s)—Product Name(s):

MR 11305—Water Bottle, Travel, Cortland, 24 oz.

MR 11308—Tumbler, Travel, Shake and Go, 20 oz.

MR 11334—Bottle, Eddy, 0.75L, Assorted

MR 13083—Mug, Snap Seal, Contigo, 16 oz

MR 13084—Bottle, Bubba, 32 oz

MR 13086—Bottle, Kids, Bubba, 16 oz

MR 13088—Mug, Travel, Plastic, West Loop 2.0, 20 oz

MR 3201—Stay Put Elastics Black

Authorized Source of Supply: Association for Vision Rehabilitation and Employment, Inc., Binghamton, NY

Contracting Activity: Military Resale-Defense Commissary Agency

NSN(s)—Product Name(s):

MR 549—Sponge, Pop-Up, Small

Authorized Source of Supply: Mississippi Industries for the Blind (Inc), Jackson, MS

Contracting Activity: Military Resale-Defense Commissary Agency

NSN(s)—Product Name(s):

MR 13041—Box, Insulated, Assorted Colors, Lunch

MR 13042—Bag, Triangular, Assorted Colors, Lunch

MR 13044—Bag, Round Handle, Assorted Colors, Lunch

Authorized Source of Supply: West Texas Lighthouse for the Blind, San Angelo, TX

Contracting Activity: Military Resale-Defense Commissary Agency

NSN(s)—Product Name(s):

MR 13060—Flavor Injector, Meat and Poultry

MR 13062—Rack, Pressure Cooker, Silicone

MR 13063—Rack, Roasting, Silicone

MR 13079—Set, Glass Containers, Smart Seal, 12 Piece

MR 13152—POP 4 Pc Baking Accessories Set

MR 13022—Corer, Cupcake

MR 13024—Cookie Press, Disc Storage, 12 Discs

MR 13056—Kit, Bottle, Bakers, 8pc

MR 13058—cups, Baking, Silicone

MR 13059—Spatula, Baking, cookie, Silicone

MR 855—Ergo Nylon Spoon

MR 856—Ergo Nylon Slotted Spoon

MR 857—Ergo Nylon Spaghetti Server

MR 861—Ergo Nylon Ladle

MR 869—Oxo Good Grip Silicone Spatula

MR 891—Handheld Grater

MR 892—Ergo Apple Divider

MR 1123—Mat Drying, Silicone, Large

MR 13128—Set, Bowl, Mixing, 3 pc

MR 13129—Set, Container, Plastic, 16 pc

MR 13001—Greensaver Produce Keeper, 1.6 Qt.

MR 13002—Greensaver Produce Keeper, 4.3 Qt.

MR 13037—Microwave Bacon Crisper

MR 820—Opener, Can and Bottle

MR 826—Peeler, Vegetable

MR 829—Meat Hammer, Tenderizing

MR 842—Tong, Scissor

MR 849—Whisk, Wire Looped

MR 862—Whisk, Silicone, Balloon, Red

MR 853—Ergo Nylon Square Turner

MR 854—Ergo Nylon Round Turner

MR 335—Squeezer, Citrus, Aluminum

MR 338—Mandoline Slicer, Handheld

MR 342—Shaker, Salad Dressing

MR 800—BBQ 4 Piece Tool Set

MR 803—BBQ Fork

MR 819—Can Opener, Gear Type

MR 888—Ergo Pizza Wheel

Authorized Source of Supply: Cincinnati Association for the Blind and Visually Impaired, Cincinnati, OH

Contracting Activity: Military Resale-Defense Commissary Agency

NSN(s)—Product Name(s):

MR 949—Mitt, Oven, Quilted, Cotton

Authorized Source of Supply: Chester County Branch, PA Association for the Blind and Visually Impaired, Coatesville, PA

Contracting Activity: Military Resale-Defense Commissary Agency

Service(s)

Service Type: Mailroom Operation & Administrative Supp

Mandatory for: US Army, Logistics Data Analysis Center, Huntsville, AL

Authorized Source of Supply: Huntsville Rehabilitation Foundation, Inc., Huntsville, AL

Contracting Activity: DEPT OF THE ARMY, W6QK ACC-RSA

Michael R. Jurkowski,
Director, Business Operations.

[FR Doc. 2025-05806 Filed 4-3-25; 8:45 am]

BILLING CODE 6353-01-P